DEPARTMENT OF AGRICULTURE

Submission for OMB Review; Comment Request

May 4, 2022.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 9, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Food Security Status and Well-Being of Nutrition Assistance Program (NAP) Participants in Puerto Rico.

OMB Control Number: 0584-NEW.

Summary of Collection: Following Hurricane Maria, Congress appropriated additional disaster relief funds provided by section 309 of Public Law 115-72 that were distributed through the Nutrition Assistance Program (NAP) to program participants in Puerto Rico. Under H.R. 2157, section 105, funds were appropriated for the Secretary of Agriculture to conduct an independent study, including a survey of NAP participants, to examine the food security, health status, and well-being of NAP participants and low-income residents in Puerto Rico.

Need and Use of the Information: FNS is conducting this study to establish baseline estimates of household food security status in Puerto Rico. FNS has identified five objectives for this study:

Produce descriptive statistics on key sociodemographic and economic variables, including household food security, in a representative sample of Puerto Rico households.

Produce descriptive statistics on key sociodemographic and economic variables, including household food insecurity, in multiple representative subsamples in Puerto Rico stratified according to the following classifications: NAP participants and low-income nonparticipants, adults aged 60 and older, disability status, employment status, and educational level.

Produce descriptive statistics for each subsample in Puerto Rico on key social, geospatial, and other policy-relevant elements of health and well-being associated with household food security.

Characterize the social context of food insecurity through in-depth interviews with individuals within the NAP participant and low-income nonparticipant subgroups. Each interview will ask the individual to consider the household or family, community and Federal food assistance, and disaster relief contexts.

Develop a detailed concept/problem map of the systemic factors that shape the implementation of the NAP program, particularly as a disaster relief tool. The concept mapping process will include data collection from key informants with knowledge of one or more of the stages of the Puerto Rican food and nutrition system: Production, processing, distribution, acquisition, preparation, consumption, digestion, transport, and metabolism.

Description of Respondents: Individuals/Households, State, Local, or Tribal government, Businesses or other for-Profits/Not-for-Profit Institutions.

Number of Respondents: 12,504.

Frequency of Responses: On Occasion.

Total Burden Hours: 4,994.

Ruth Brown,
Departmental Information Collection Clearance Officer.

[FR Doc. 2022-09954 Filed 5-9-22; 8:45 am]

BILLING CODE 3410-30-P